DEPARTMENT OF THE INTERIOR

Bureau of Land Management

[OR-958-1430-EU; HAG-03-0018; OR 57458]

Notice of Disclaimer of Interest; Oregon

AGENCY: Bureau of Land Management, Interior.

ACTION: Notice.

SUMMARY: Dennis D. Ashenfelter, has filed an application on behalf of Progress Quarry, L.L.C., for a record disclaimer of interest from the United States pursuant to the authority of section 315 of the Federal Land Policy and Management Act of 1976 (43 U.S.C. 1745), for the following described land:

Willamette Meridian, Oregon

T. 2 S., R. 1 W.,

Sec. 5, S½NE¼ and SE¼

The area described contains 240.00 acres in Washington County, Oregon.

FOR FURTHER INFORMATION CONTACT: Jenny Liang, BLM Oregon/Washington State Office, P.O. Box 2965, Portland, Oregon 97208, 503-808-6299.

SUPPLEMENTARY INFORMATION: The above described land was granted by the United States to the Oregon and California Rail Road Company by patent No. 1, dated May 9, 1871, pursuant to the Act of July 25, 1866, and June 25, 1868. The patent contained the statement excluding and accepting from the transfer, all mineral lands should any such be found to exist, but this exception and exclusion according to the terms of the statute shall not be construed to include coal and iron lands. The Bureau of Land Management (BLM) will determine if the United States has any claim to the minerals in the land described above; whereby, issuance of the proposed recordable disclaimer of interest would remove a cloud on the title to the land. For a period of 90 days from the date of publication of this notice, all persons who wish to present comments, suggestions, or objections in connection with the proposed disclaimer may do so by writing to the Chief, Branch of Realty and Records Services, BLM Oregon State Office, P.O. Box 2965, Portland, Oregon 97208. If no objections are received, the disclaimer will be published shortly after the 90 days has lapsed.

Robert D. DeViney, Jr.,
Chief, Branch of Realty and Records Services.

[FR Doc. 03-5006 Filed 3-3-03; 8:45 am]

BILLING CODE 4310-33-P